DEPARTMENT OF HEALTH AND HUMAN SERVICES

National Committee on Vital and Health Statistics: Meeting

Pursuant to the Federal Advisory Committee Act, The Department of Health and Human Services announces the following advisory committee meeting.

Name: National Committee on Vital and Health Statistics (NCVHS) Subcommittee on Privacy and Confidentiality.

Time and Date: 9 a.m.-5 p.m., February 23, 2005. 9 a.m.-5 p.m., February 24, 2005.

Place: Hubert H. Humphrey Building, Room 705A, 200 Independence Avenue, SW., Washington, DC 20201.

Status: Open.

Purpose: At this meeting, the NCVHS Subcommittee on Privacy and Confidentiality will receive information on the privacy implications of health information technology.

The first day of the meeting will be conducted as a hearing, in which the Subcommittee will gather information about the importance of health privacy, and privacy in health care and society. The Subcommittee will invite representatives who can provide information about these matters. The format for the meeting will include one or more invited panels and time for questions and discussion. The first day will also include a time period during which members of the public may deliver brief (3 minutes or less) oral public comment. To be included on the agenda, please contract Marietta Squire (301) 458-4524, by e-mail at mrawlinson@cdc.gov or postal address at 3311 Toledo Road, Room 2340, Hyattsville, MD 20782 by February 22, 2005.

The second day of the meeting will be conducted as a hearing, in which the Subcommittee will gather information about the impact of health information technology and privacy concerns on consumer health care and on patients with chronic or serious diseases, and the impact of privacy concerns on electronic personal health records. The Subcommittee will invite representatives who can provide information about these matters. The format will include one or more invited panels and time for questions and discussion.

Persons wishing to submit written testimony only (which should not exceed five double-spaced typewritten pages) should endeavor to submit it by that date. Unfilled slots for oral testimony will also be filled on the days of the meeting as time permits. Please consult Ms. Squire for further information about these arrangements.

Additional information about the hearing will be provided on the NCVHS Web site at http://www.ncvhs.hhs.gov shortly before the hearing date.

Contact Person for More Information: Information about the content of the hearing and matters to be considered may be obtained from Kathleen H. Fyffe, Lead Staff Person for the NCVHS Subcommittee on Privacy and Confidentiality, Office of the Assistant Secretary for Planning and Evaluation, U.S. Department of Health and Human services, 440D Humphrey Building, 200 Independence Avenue, SW., Washington DC 20291, telephone (202 690-7152, e-mail Kathleen.Fyffe@hhs,gov or from Marjorie S. Greenberg, Executive Secretary, NCVHS, NCHS, CDC, Room 2413, Presidential Building IV, 3311 Toledo Road, Hyattsville, Maryland 20782, telephone (301) 457-4245.

Information about the committee, including summaries of past meetings and a roster of committee members, is available on the Committee's Web site at http://www.ncvhs,hhs.gov.

Should you require reasonable accommodation, please contact the CDC Office of Equal Employment Opportunity on (301) 458-4EEO (4336) as soon as possible.

Dated: February 7, 2005.
James Scanlon,
Acting Deputy Assistant Secretary for Science and Data Policy, OASPE.

[FR Doc. 05-2849 Filed 2-14-05; 8:45 am]

BILLING CODE 4151-05-M